DEPARTMENT OF EDUCATION

[CFDA Nos. 84.305J, 84.305H, and 84.305G]

Office of Educational Research and Improvement (OERI) Research Grant Programs; Notice of Application Review Procedures for Certain New Awards for Fiscal Year 2002

SUMMARY: This notice establishes procedures that OERI will use to review applications for research grants under the Preschool Curriculum Evaluation Research Grant Program, the Cognition and Student Learning Research Grant Program, and the Reading Comprehension Research Grant Program in fiscal year 2002. These procedures modify the procedures governing the review of applications in 34 CFR part 700.

Application Review Procedure

OERI will form a peer review panel that will be composed of reviewers who are expert in the substantive area of the competition. The panel will be of sufficient size to review carefully all applications submitted for the particular competition. All eligible applications received for the competition will be provided to all members of the panel, either electronically, for those applications submitted electronically, or in paper copy. All reviewers will be expected to be familiar enough with the applications to participate in a discussion of the applications at the review panel meeting.

A primary, secondary, and tertiary reviewer (lead reviewers) will be identified for each eligible application. Each member of the panel will serve as a lead reviewer for a number of applications. Prior to the panel meeting, panel members will independently review and rate those applications for which they are assigned lead reviewer responsibilities. For each assigned application, the lead reviewers will complete technical review forms, fully documenting their judgments regarding the strengths and weaknesses of the application according to the published selection criteria and assigning a preliminary rating for each criterion.

The four selection criteria to be used to evaluate applications were published in the application notices for the competitions, along with the weights assigned to each criterion. The criteria and weights are: National Significance (.2), Quality of the Project Design (.5), Quality and Potential Contributions of Personnel (.2), and Adequacy of Resources (.1).

In assigning ratings for each criterion, reviewers will use a seven-point scale. The scale is anchored on each end, with 7 = Excellent and 1 = Poor.

Prior to the panel meeting, panel members will send to the OERI program official their preliminary ratings for each criterion for each application for which they are a lead reviewer. Applying the criterion weights, OERI staff will calculate the preliminary score of the primary, secondary, and tertiary reviewer for each application, as well as the average score of the lead reviewers for each application. A preliminary rank order will be prepared based on the average lead reviewer score for each application. Prior to the opening session of the panel meeting, all members of the panel will be provided the preliminary rank order, along with the average lead reviewer score and the individual scores of the primary, secondary, and tertiary reviewers, for each application.

At the panel meeting, the full panel will convene to discuss the strengths and weaknesses of applications. Applications that received average lead reviewer scores that place them in the bottom half of all applications, as shown on the preliminary rank order, will be deemed non-competitive and will not be discussed, unless (a) a member of the panel, who believes that a particular application might be competitive, requests that the application be discussed by the full panel; (b) the OERI program official determines that a larger proportion of applications needs to be discussed in order to ensure fair consideration among applications with tightly clustered scores; or (c) the OERI program official determines that the total number of applications received is too small to warrant differential discussion of applications, in which case all applications will be discussed. For any competition for which the OERI program official determines that the total number of applications received is too large for the entire top half of applications to be considered competitive, then only the top proportion of applications that represents approximately three times the estimated number of applications to be funded will be discussed by the full panel. For example, if 90 applications are received and approximately 10 can be funded, then the top one-third of applications will be discussed by the full panel.

A panel chairperson designated by the OERI program official will lead the discussion of applications. For each application, the primary, secondary, and tertiary reviewers will each discuss strengths and weaknesses of the application and answer any questions posed by other panel members.

Following the discussion of applications, each member of the panel will independently rate each application on each criterion, using the seven-point scale. In addition, each reviewer will indicate for each application whether the reviewer highly recommends funding, recommends funding, or does not recommend funding of the application. Lead reviewers will be able to change their preliminary ratings and modify their documented technical review forms at this time.

Following the review panel meeting, the OERI program official and OERI staff will apply the published weights to the ratings provided by reviewers in order to calculate reviewer scores for each of the applications. Then the average score will be calculated for each application, and a rank order will be prepared of all applications that were scored by the full panel. The rank order will also indicate, for each application, the number of reviewers who highly recommended the application be funded, the number who recommended that it be funded, and the number who recommended that the application not be funded.

Waiver of Proposed Rulemaking

In accordance with the Administrative Procedure Act (5 U.S.C. 553), it is the practice of the Secretary to offer interested parties the opportunity to comment on proposed regulations. However, because this notice merely establishes procedural requirements for review of applications and does not create substantive policy, the Secretary has determined that proposed rulemaking is not required under 5 U.S.C. 553(b)(A).

FOR FURTHER INFORMATION CONTACT: Elizabeth Payer, Office of Educational Research and Improvement, U.S. Department of Education, 555 New Jersey Avenue, NW., room 502e, Washington, DC 20208-5645. Telephone: (202) 219-1310 or via Internet: Elizabeth_Payer@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 6031(c).

Dated: April 10, 2002.
Grover J. Whitehurst,
Assistant Secretary for Educational Research and Improvement.

[FR Doc. 02-9235 Filed 4-15-02; 8:45 am]

BILLING CODE 4000-01-P